DEPARTMENT OF HOUSING AND URBAN DEVELOPMENT

[Docket No. FR-5299-N-01]

Request for Recommendations Regarding Administrative and Procedural Changes To Expedite the Approval of Applications for FHA-Insured Multifamily Mortgages Involving Low-Income Housing Tax Credits or Tax-Exempt Bonds

AGENCY: Office of the Assistant Secretary for Housing-Federal Housing Commissioner, HUD.

ACTION: Notice.

SUMMARY: This notice, pursuant to statute, solicits recommendations from stakeholders in HUD's insured multifamily projects, as well as interested members of the public, on administrative and procedural changes that HUD should adopt to expedite approval of multifamily housing projects involving low-income housing tax credits or tax-exempt bonds under the jurisdiction of HUD. In addition to soliciting, generally, recommendations on expediting the approval process of multifamily housing projects, HUD is soliciting recommendations on specific topics as stated in this notice.

DATES: Comment Due Date: June 29, 2009.

ADDRESSES: Interested persons are invited to submit comments regarding this notice to the Regulations Division, Office of General Counsel, 451 7th Street, SW., Room 10276, Department of Housing and Urban Development, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street, SW., Room 10276, Washington, DC 20410-0500.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov website can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number through TTY by calling the Federal Information Relay Service at 800-877-8339. Copies of all comments submitted are available for inspection and downloading at http://www.regulations.gov.

FOR FURTHER INFORMATION CONTACT: Eric Stevenson, Deputy Director, Office of Multifamily Development, Department of Housing and Urban Development, 451 Seventh Street, SW., Room 6152, Washington, DC 20410, Telephone 202-708-1142; e-mail: Eric.Stevenson@hud.gov. Individuals with speech or hearing impairments may access this number through TTY by calling the toll-free Federal Information Relay Service at (800) 877-8339.

Background: Title VIII, subtitle B of the Housing and Economic Development Recovery Act of 2008 (HERA), (Pub. L. 110-289, approved July 30, 2008), which is cited as the “Housing Tax Credit Coordination Act of 2008,” increases HUD's ability to facilitate and coordinate the use of low income housing tax credits or tax-exempt bonds with multifamily projects that receive FHA assistance.

Section 2832 of HERA requires that HUD implement “administrative and procedural” changes to expedite the approval of assistance for certain multifamily assisted housing projects for which HUD approval is required. The multifamily housing projects covered by this section include projects for which HUD provides assistance in conjunction with low-income housing tax credits under section 42 of the Internal Revenue Code of 1986 (26 U.S.C. 42) or tax-exempt housing bonds, and public or assisted housing projects for transactions, in conjunction with any low-income housing tax credits or tax-exempt bonds, involving the preservation or rehabilitation of the project.

Section 2832(c) of HERA directs HUD to solicit recommendations from project owners and sponsors, investors and stakeholders in housing tax credits, state and local housing finance agencies, public housing agencies, tenant advocates, and other stakeholders in multifamily housing projects that will be receiving the benefit of low income housing tax credits or tax-exempt bonds, regarding administrative and procedural changes that could be implemented to expedite the approval of applications for HUD insured mortgages for such projects. The category of assisted multifamily housing projects to which this notice applies also includes, in addition to projects applying for FHA mortgage insurance, projects that will no longer have FHA insured mortgages, but which request to continue to retain the benefits of interest reduction payments under Section 236 of the National Housing Act (12 U.S.C. 1715z-1), with LIHTC or tax-exempt bond financing. This notice seeking comment from stakeholders and other interested members of the public is issued in response to the direction in section 2832 of HERA to solicit recommendations on the multifamily housing approval process.

In addition to soliciting recommendations, generally, on administrative and procedural changes that HUD should adopt to expedite and facilitate its approval of multifamily housing projects, HUD specifically solicits public comment on the following areas:

(A) Improving the efficiency of approval procedures;

(B) Simplifying approval requirements,

(C) Establishing time deadlines or target deadlines for required approvals;

(D) Modifying division of approval authority between field and national offices;

(E) Improving outreach to project sponsors regarding information that is required to be submitted for such approvals;

(F) Requesting additional funding for increasing staff, if necessary; and

(G) Any other actions which would expedite approvals.

Those stakeholders and interested members of the public who wish to comment on these or related topics should submit their comments as provided in the Addresses section of this notice.

Dated: April 17, 2009.
Brian D. Montgomery,
Assistant Secretary for Housing—Federal Housing Commissioner.

[FR Doc. E9-9677 Filed 4-28-09; 8:45 am]

BILLING CODE 4210-67-P